DEPARTMENT OF TRANSPORTATION

Office of the Secretary

14 CFR Chs. I-III

23 CFR Chs. I-III

33 CFR Chs. I and IV

46 CFR Chs. I-III

48 CFR Ch. 12

49 CFR Subtitle A, Chs. I-VI and Chs. X-XII

[OST Docket 99-5129]

Department Regulatory Agenda; Semiannual Summary

AGENCY: Office of the Secretary, DOT.

ACTION: Semiannual Regulatory Agenda.

SUMMARY: The Regulatory Agenda is a semiannual summary of all current and projected rulemakings, reviews of existing regulations, and completed actions of the Department. The Agenda provides the public with information about the Department of Transportation's regulatory activity. It is expected that this information will enable the public to be more aware of and allow it to more effectively participate in the Department's regulatory activity. The public is also invited to submit comments on any aspect of this Agenda.

FOR FURTHER INFORMATION CONTACT:

General

You should direct all comments and inquiries on the Agenda in general to Neil R. Eisner, Assistant General Counsel for Regulation and Enforcement, Department of Transportation, 1200 New Jersey Avenue SE., Washington, DC 20590; 202 366-4723.

Specific

You should direct all comments and inquiries on particular items in the Agenda to the individual listed for the regulation or the general rulemaking contact person for the operating administration in Appendix B. Individuals who use a telecommunications device for the deaf (TDD) may call 202 755-7687.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to assure that they continue to meet the needs for which they originally were designed. To view additional information about the Department of Transportation's regulatory activities online, go to http://regs.dot.gov. Among other things, this Web site provides a report, updated monthly, on the status of the DOT significant rulemakings listed in the Semiannual Regulatory Agenda.

To help the Department achieve these goals and in accordance with Executive Order (EO) 12866, “Regulatory Planning and Review,” (58 FR 51735; Oct. 4, 1993) and the Department's Regulatory Policies and Procedures (44 FR 11034; Feb. 26, 1979), the Department prepares a Semiannual Regulatory Agenda. It summarizes all current and projected rulemaking, reviews of existing regulations, and completed actions of the Department. These are matters on which action has begun or is projected during the succeeding 12 months or such longer period as may be anticipated or for which action has been completed since the last Agenda.

The Agendas are based on reports submitted by the offices initiating the rulemaking and are reviewed by the Department Regulations Council. The Department's last Agenda was published in the Federal Register on July 7, 2011 (76 FR 40092). The next one is scheduled for publication in the Federal Register in spring 2012.

The Internet is the basic means for disseminating the Unified Agenda. The complete Unified Agenda is available online at www.reginfo.gov, in a format that offers users a greatly enhanced ability to obtain information from the Agenda database.

Because publication in the Federal Register is mandated for the regulatory flexibility agendas required by the Regulatory Flexibility Act (5 U.S.C. 602), DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list see section heading “Explanation of Information on the Agenda”) on these entries is available in the Unified Agenda published on the Internet.

Significant/Priority Rulemakings

The Agenda covers all rules and regulations of the Department. We have classified rules as a DOT agency priority in the Agenda if they are, essentially, very costly, beneficial, controversial, or of substantial public interest under our Regulatory Policies and Procedures. All DOT agency priority rulemaking documents are subject to review by the Secretary of Transportation. If the Office of Management and Budget (OMB) decides a rule is subject to its review under Executive Order 12866, we have classified it as significant in the Agenda.

Explanation of Information on the Agenda

An Office of Management and Budget memorandum, dated June 30, 2011, requires the format for this Agenda.

First, the Agenda is divided by initiating offices. Then, the Agenda is divided into five categories: (1) Prerule stage, (2) proposed rule stage, (3) final rule stage, (4) long-term actions, and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for a decision on whether to take the action; (8) whether the rulemaking will affect small entities and/or levels of government and, if so, which categories; (9) whether a Regulatory Flexibility Act (RFA) analysis is required (for rules that would have a significant economic impact on a substantial number of small entities); (10) a listing of any analyses an office will prepare or has prepared for the action (with minor exceptions, DOT requires an economic analysis for all its rulemakings.); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.”

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which we expect to make a decision on whether to issue it. In addition, these dates are based on current schedules. Information received subsequent to the issuance of this Agenda could result in a decision not to take regulatory action or in changes to proposed publication dates. For example, the need for further evaluation could result in a later publication date; evidence of a greater need for the regulation could result in an earlier publication date.

Finally, a dot (•) preceding an entry indicates that the entry appears in the Agenda for the first time.

Request for Comments

General

Our agenda is intended primarily for the use of the public. Since its inception, we have made modifications and refinements that we believe provide the public with more helpful information, as well as make the Agenda easier to use. We would like you, the public, to make suggestions or comments on how the Agenda could be further improved.

Reviews

We also seek your suggestions on which of our existing regulations you believe need to be reviewed to determine whether they should be revised or revoked. We particularly draw your attention to the Department's review plan in Appendix D. In response to E.O. 13563 “Retrospective Review and Analysis of Existing Rules,” we have prepared a retrospective review plan providing more detail on the process we use to conduct reviews of existing rules, including changes in response to E.O. 13563. We provided the public opportunities to comment at regulations.gov and IdeaScale on both our process or any existing DOT rules the public thought needed review. The plan and the results of our review can be found at regs.dot.gov.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see Appendix D for the Department's section 610 review plans.

Consultation With State, Local, and Tribal Governments

Executive orders 13132 and 13175 require us to develop an accountable process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of government or Indian tribes. Therefore, we encourage State and local governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: September 26, 2011.
Ray LaHood,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the Internet at http://www.regulations.gov. See Appendix C for more information.

(Name of contact person), (Name of the DOT agency), 1200 New Jersey Avenue SE., Washington, DC 20590. (For the Federal Aviation Administration, substitute the following address: Office of Rulemaking, ARM-1, 800 Independence Avenue SW., Washington, DC 20591.)

Appendix B—General Rulemaking Contact Persons

The following is a list of persons who can be contacted within the Department for general information concerning the rulemaking process within the various operating administrations.

FAA—Rebecca MacPherson, Office of Chief Counsel, Regulations and Enforcement Division, 800 Independence Avenue SW., Room 915A, Washington, DC 20591; telephone 202 267-3073.

FHWA—Jennifer Outhouse, Office of Chief Counsel, 1200 New Jersey Avenue SE., Washington, DC 20590; telephone 202 366-0761.

FMCSA—Steven J. LaFreniere, Regulatory Ombudsman, 1200 New Jersey Avenue SE., Washington, DC 20590; telephone 202 366-0596.

NHTSA—Steve Wood, Office of Chief Counsel, 1200 New Jersey Avenue SE., Washington, DC 20590; telephone 202 366-2992.

FRA—Kathryn Shelton, Office of Chief Counsel, 1200 New Jersey Avenue SE., Room W31-214, Washington, DC 20590; telephone 202 493-6063.

FTA—Bonnie Graves, Office of Chief Counsel, 1200 New Jersey Avenue SE., Room E56-306, Washington, DC 20590; telephone 202 366-0944.

SLSDC—Carrie Mann Lavigne, Chief Counsel, 180 Andrews Street, Massena, NY 13662; telephone 315 764-3200.

PHMSA—Patricia Burke, Office of Chief Counsel, 1200 New Jersey Avenue SE., Washington, DC 20590; telephone 202 366-4400.

MARAD—Christine Gurland, Office of Chief Counsel, Maritime Administration, 1200 New Jersey Avenue SE., Washington, DC 20590; telephone 202 366-5157.

RITA—Robert Monniere, Office of Chief Counsel, 1200 New Jersey Avenue SE., Washington, DC 20590; telephone 202 366-5498.

OST—Neil Eisner, Office of Regulation and Enforcement, 1200 New Jersey Avenue SE., Washington, DC 20590; telephone 202 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at, or deliver comments on proposed rulemakings to, the Dockets Office at 1200 New Jersey Avenue SE., Room W12-140, Washington, DC 20590, 1 800 647-5527. Working Hours: 9-5.

Appendix D—Review Plans for Section 610 and Other Requirements

Part I—The Plan

General

The Department of Transportation has long recognized the importance of regularly reviewing its existing regulations to determine whether they need to be revised or revoked. Our 1979 Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if needed, will initiate rulemaking actions based on these reviews.

In accordance with Executive Order 13563, “Improving Regulation and Regulatory Review,” issued by the President on January 18, 2011, the Department has added other elements to its review plan. The Department has decided to improve its plan by adding special oversight processes within the Department; encouraging effective and timely reviews, including providing additional guidance on particular problems that warrant review; and expanding opportunities for public participation. These new actions are in addition to the other steps described in this Appendix.

Section 610 Review Plan

Section 610 requires that we conduct reviews of rules that (1): Have been published within the last 10 years, and (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act. ' TAG FOUND; PLEASE REVIEW ALL TAGGING IN PREVIOUS PARAGRAPH -->

Other Review Plan(s)

All elements of the Department, except for the Federal Aviation Administration (FAA), have also elected to use this 10-year plan process to comply with the review requirements of the Department's Regulatory Policies and Procedures and Executive Order 12866.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a Presidentially-mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in Appendix B, General Rulemaking Contact Persons.

Section 610 Review

The agency will analyze each of the rules in a given year's group to determine whether any rule has a SEIOSNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

The FAA, in addition to reviewing its rules in accordance with the section 610 Review Plan, has established a tri-annual process to comply with the review requirements of the Department's Regulatory Policies and Procedures, Executive Order 12866, and Plain Language Review Plan. The FAA's latest review notice was published November 15, 2007 (72 FR 64170). In that notice, the FAA requested comments from the public to identify those regulations currently in effect that it should amend, remove, or simplify. The FAA also requested the public to provide any specific suggestions where rules could be developed as performance-based rather than prescriptive, and any specific plain language that might be used, and provide suggested language on how those rules should be written. The FAA will review the issues addressed by the commenters against its regulatory agenda and rulemaking program efforts and adjust its regulatory priorities consistent with its statutory responsibilities. At the end of this process, the FAA will publish a summary and general disposition of comments and indicate, where appropriate, how it will adjust its regulatory priorities.

Part III—List of Pending Section 610 Reviews

The Agenda identifies the pending DOT section 610 Reviews by inserting “(Section 610 Review),” after the title for the specific entry. For further information on the pending reviews, see the Agenda entries at www.reginfo.gov. For example, to obtain a list of all entries that are section 610 Reviews under the Regulatory Flexibility Act, a user would select the desired responses on the search screen (by selecting “advanced search”) and, in effect, generate the desired “index” of reviews.

Office of the Secretary

Section 610 and Other Reviews
Year | Regulations To Be Reviewed | Analysis Year | Review Year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 1 (Fall 2008) List of Rules With Ongoing Analysis

49 CFR part 91—International Air Transportation Fair Competitive Practices

49 CFR part 92—Recovering Debts to the United States by Salary Offset

49 CFR part 95—Advisory Committees

49 CFR part 98—Enforcement of Restrictions on Post-Employment Activities

49 CFR part 99—Employee Responsibilities and Conduct

14 CFR part 200—Definitions and Instructions

14 CFR part 201—Air Carrier Authority Under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Year 3 (Fall 2010) List of Rules With Ongoing Analysis

14 CFR part 213—Terms, Conditions, and Limitations of Foreign Air Carrier Permits

14 CFR part 214—Terms, Conditions, and Limitations of Foreign Air Carrier Permits Authorizing Charter Transportation Only

14 CFR part 215—Use and Change of Names of Air Carriers, Foreign Air Carriers, and Commuter Air Carriers

14 CFR part 216—Comingling of Blind Sector Traffic by Foreign Air Carriers

14 CFR part 217—Reporting Traffic Statistics by Foreign Air Carriers in Civilian Scheduled, Charter, and Nonscheduled Services

14 CFR part 218—Lease by Foreign Air Carrier or Other Foreign Person of Aircraft With Crew

14 CFR part 221—Tariffs

14 CFR part 222—Intermodal Cargo Services by Foreign Air Carriers

14 CFR part 223—Free and Reduced-Rate Transportation

14 CFR part 232—Transportation of Mail, Review of Orders of Postmaster General

Year 4 (Fall 2011) List of Rules To Be Analyzed During the Next Year

14 CFR part 234—Airline Service Quality Performance Reports

14 CFR part 240—Inspection of Accounts and Property

14 CFR part 241—Uniform System of Accounts and Reports for Large Certificated Air Carriers

14 CFR part 243—Passenger Manifest Information

14 CFR part 247—Direct Airport-to-Airport Mileage Records

14 CFR part 248—Submission of Audit Reports

14 CFR part 249—Preservation of Air Carrier Records

14 CFR part 250—Oversales

14 CFR part 251—Smoking Aboard Aircraft

14 CFR part 253—Notice of Terms of Contract of Carriage

14 CFR part 254—Domestic Baggage Liability

Federal Aviation Administration

Section 610 Review Plan

The FAA has elected to use the two-step, two-year process used by most DOT modes in past plans. As such, the FAA has divided its rules into 10 groups as displayed in the table below. During the first year (the “analysis year”), all rules published during the previous 10 years within a 10% block of the regulations will be analyzed to identify those with a SEIOSNOSE. During the second year (the “review year”), each rule identified in the analysis year as having a SEIOSNOSE will be reviewed in accordance with section 610(b) to determine if it should be continued without change or changed to minimize impact on small entities. Results of those reviews will be published in the DOT Semiannual Regulatory Agenda.

Year | Regulations To Be Reviewed | Analysis Year | Review Year
1 | 14 CFR parts 119 through 129 and parts 150 through 156 | 2008 | 2009
2 | 14 CFR parts 133 through 139 and parts 157 through 169 | 2009 | 2010
3 | 14 CFR parts 141 through 147 and parts 170 through 187 | 2010 | 2011
4 | 14 CFR parts 189 through 198 and parts 1 through 16 | 2011 | 2012
5 | 14 CFR parts 17 through 33 | 2012 | 2013
6 | 14 CFR parts 34 through 39 and parts 400 through 405 | 2013 | 2014
7 | 14 CFR parts 43 through 49 and parts 406 through 415 | 2014 | 2015
8 | 14 CFR parts 60 through 77 | 2015 | 2016
9 | 14 CFR parts 91 through 105 | 2016 | 2017
10 | 14 CFR parts 417 through 460 | 2017 | 2018

Year 5 (Fall 2012) List of Rules To Be Analyzed During the Next Year

14 CFR part 17—Procedures for Protests and Contracts Disputes

14 CFR part 21—Certification Procedures for Products and Parts

14 CFR part 23—Airworthiness Standards: Normal, Utility, Acrobatic, and Commuter Category Airplanes

14 CFR part 25—Airworthiness Standards: Transport Category Airplanes

14 CFR part 26—Continued Airworthiness and Safety Improvements for Transport Category Airplanes

14 CFR part 27—Airworthiness Standards: Normal Category Rotorcraft

14 CFR part 29—Airworthiness Standards: Transport Category Rotorcraft

14 CFR part 31—Airworthiness Standards: Manned Free Balloons

14 CFR part 33—Airworthiness Standards: Aircraft Engines

Year 4 (Fall 2011) List of Rules Analyzed and Summary of Results

14 CFR Part 189—Use of Federal Aviation Administration Communications System

• Section 610: The agency conducted a section 610 review of this part and found no SEIOSNOSE.

• General: No changes are needed. These regulations are cost effective and impose the least burden. FAA's plain language review of these rules indicates no need for substantial revision.

14 CFR part 193—Protection of Voluntarily Submitted Information

• Section 610: The agency conducted a section 610 review of this part and found no SEIOSNOSE.

• General: No changes are needed. These regulations are cost effective and impose the least burden. FAA's plain language review of these rules indicates no need for substantial revision.

14 CFR part 198—Aviation Insurance

• Section 610: The agency conducted a section 610 review of this part and found no SEIOSNOSE.

• General: No changes are needed. These regulations are cost effective and impose the least burden. FAA's plain language review of these rules indicates no need for substantial revision.

14 CFR part 1—Definitions and Abbreviations

• Section 610: The agency conducted a section 610 review of this part and found no SEIOSNOSE.

• General: No changes are needed. These regulations are cost effective and impose the least burden. FAA's plain language review of these rules indicates no need for substantial revision.

14 CFR part 3—General Requirements

• Section 610: The agency conducted a section 610 review of this part and found no SEIOSNOSE.

• General: No changes are needed. These regulations are cost effective and impose the least burden. FAA's plain language review of these rules indicates no need for substantial revision.

14 CFR part 11—General Rulemaking Procedures

• Section 610: The agency conducted a section 610 review of this part and found no SEIOSNOSE.

• General: No changes are needed. These regulations are cost effective and impose the least burden. FAA's plain language review of these rules indicates no need for substantial revision.

14 CFR part 13—Investigative and Enforcement Procedures

• Section 610: The agency conducted a section 610 review of this part and found no SEIOSNOSE.

• General: No changes are needed. These regulations are cost effective and impose the least burden. FAA's plain language review of these rules indicates no need for substantial revision.

14 CFR part 14—Rules Implementing the Equal Access to Justice Act of 1980

• Section 610: The agency conducted a section 610 review of this part and found no SEIOSNOSE.

• General: No changes are needed. These regulations are cost effective and impose the least burden. FAA's plain language review of these rules indicates no need for substantial revision.

14 CFR part 15—Administrative Claims Under Federal Tort Claims Act

• Section 610: The agency conducted a section 610 review of this part and found no SEIOSNOSE.

• General: No changes are needed. These regulations are cost effective and impose the least burden. FAA's plain language review of these rules indicates no need for substantial revision.

14 CFR part 16—Rules of Practice for Federally-Assisted Airport Enforcement Proceedings

• Section 610: The agency conducted a section 610 review of this part and found no SEIOSNOSE.

• General: No changes are needed. These regulations are cost effective and impose the least burden. FAA's plain language review of these rules indicates no need for substantial revision.

Federal Highway Administration

Section 610 and Other Reviews
Year | Regulations To Be Reviewed | Analysis Year | Review Year
1 | None | 2008 | 2009
2 | 23 CFR parts 1 to 260 | 2009 | 2010
3 | 23 CFR parts 420 to 470 | 2010 | 2011
4 | 23 CFR part 500 | 2011 | 2012
5 | 23 CFR parts 620 to 637 | 2012 | 2013
6 | 23 CFR parts 645 to 669 | 2013 | 2014
7 | 23 CFR 710 to 924 | 2014 | 2015
8 | 23 CFR 940 to 973 | 2015 | 2016
9 | 23 CFR parts 1200 to 1252 | 2016 | 2017
10 | New parts and subparts | 2017 | 2018

Federal-Aid Highway Program

The FHWA has adopted regulations in title 23 of the CFR, chapter I, related to the Federal-Aid Highway Program. These regulations implement and carry out the provisions of Federal law relating to the administration of Federal aid for highways. The primary law authorizing Federal aid for highways is chapter I of title 23 of the U.S.C. section 145 of title 23 expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 3 (Fall 2010) List of Rules Analyzed and a Summary of Results

23 CFR part 420—Planning and Research Program Administration

• Section 610: No SEIOSNOSE. No small entities are affected.

• General: No changes are needed. These regulations are cost effective and impose the least burden. FHWA's plain language review of these rules indicates no need for substantial revision.

23 CFR part 450—Planning Assistance and Standards

• Section 610: No SEIOSNOSE. No small entities are affected.

• General: No changes are needed. These regulations are cost effective and impose the least burden. FHWA's plain language review of these rules indicates no need for substantial revision.

23 CFR part 460—Public Road Mileage for Apportionment of Highway Safety Funds

• Section 610: No SEIOSNOSE. No small entities are affected.

• General: No changes are needed. These regulations are cost effective and impose the least burden. FHWA's plain language review of these rules indicates no need for substantial revision.

23 CFR part 470—Highway Systems

• Section 610: No SEIOSNOSE. No small entities are affected.

• General: No changes are needed. These regulations are cost effective and impose the least burden. FHWA's plain language review of these rules indicates no need for substantial revision.

Year 4 (Fall 2011) List of Rules That Will Be Analyzed During the Next Year

23 CFR part 500—Management and Monitoring Systems

Federal Motor Carrier Safety Administration

Section 610 and Other Reviews
Year | Regulations To Be Reviewed | Analysis Year | Review Year
1 | 49 CFR parts 372, subpart A, and 381 | 2008 | 2009
2 | 49 CFR parts 386, 389, and 395 | 2009 | 2010
3 | 49 CFR parts 325, 388, 350, and 355 | 2010 | 2011
4 | 49 CFR parts 390 to 393 and 396 to 399 | 2011 | 2012
5 | 49 CFR parts 380 and 382 to 385 | 2012 | 2013
6 | 49 CFR parts 356, 367, 369 to 371, 372, subparts B-C | 2013 | 2014
7 | 49 CFR parts 373, 374, 376, and 379 | 2014 | 2015
8 | 49 CFR parts 360, 365, 366, and 368 | 2015 | 2016
9 | 49 CFR parts 377, 378, and 387 | 2016 | 2017
10 | 49 CFR parts 303, 375, and new parts and subparts | 2017 | 2018

Year 1 (Fall 2008) List of Rules Analyzed and a Summary of Results

49 CFR part 372, subpart A—Exemptions

• Section 610: There is no SEIOSNOSE. No small entities are affected.

• General: No changes are needed. These regulations are cost effective and impose the least burden. FMCSA's plain language review of these rules indicates no need for substantial revision.

49 CFR part 381—Waivers, Exemptions, and Pilot Programs

• Section 610: There is no SEIOSNOSE. No small entities are affected.

• General: These regulations are cost effective and impose the least burden. FMCSA's plain language review of these rules indicates no need for substantial revision.

Year 2 (Fall 2009) List of Rules Analyzed and a Summary of Results

49 CFR part 386—Rules of Practice for Motor Carrier, Broker, Freight Forwarder, and Hazardous Materials Proceedings

• Section 610: There is SEIOSNOSE, as a significant number of small entities are affected by fees associated with litigation under subpart D (see below). It was found that the cost of a formal hearing to appeal a decision may have a significant impact on small firms.

• Subpart D, “General Rules and Hearings,” addresses, in considerable detail, rules and procedures for the conduct of formal hearings. As noted above, formal hearings before an Administrative Law Judge (ALJ) consider medical-disqualification cases under section 391.47, as well as cases where a Notice of Claim (NOC) has been issued, and the respondent has asked for a formal hearing or the Assistant Administrator has ordered one. The principal economic impact of part 386 is the cost to a small firm of defending itself under these procedures.

• General: The agency will assess the need for changes once the review of these regulations is complete. FMCSA's plain language review of these regulations indicates no need for substantial revision.

49 CFR part 395—Hours of Service of Drivers

• Based on the legal agreement among the litigants approved by the Court, the final rule is set to publish on October 28, 2011.

Year 2 (Fall 2009) List of Rules With Ongoing Analysis

49 CFR part 389—Rulemaking Procedures—Federal Motor Carrier Safety Regulations

Year 3 (Fall 2010) List of Rules That Will Be Analyzed During the Next Year

49 CFR part 325—Compliance With Interstate Motor Carrier Noise Emission—amended

49 CFR part 388—Cooperative Agreements With States—in process

49 CFR part 350—Commercial Motor Carrier Safety Assistance Program—in process

49 CFR part 355—Compatibility of State Laws and Regulations Affecting Interstate Motor Carrier Operations—in process

Year 4 (Fall 2011) List of Rule(s) That Will Be Analyzed This Year

49 CFR part 390—Definition of Commercial Motor Vehicle (CMV)-Requirements for Operators of Small Passenger—Carrying CMVs.

• This rule has been moved up in the queue, as it was singled out by stakeholders at USDOT's Retrospective Review and Analysis (Executive Order 13563). The rule(s) originally slated for review were moved to the next year.

National Highway Traffic Safety Administration

Section 610 and Other Reviews
Year | Regulations To Be Reviewed | Analysis Year | Review Year
1 | 49 CFR 571.223 through 571.500, and parts 575 and 579 | 2008 | 2009
2 | 23 CFR parts 1200 through 1300 | 2009 | 2010
3 | 49 CFR parts 501 through 526 and 571.213 | 2010 | 2011
4 | 49 CFR 571.131, 571.217, 571.220, 571.221, and 571.222 | 2011 | 2012
5 | 49 CFR 571.101 through 571.110, and 571.135, 571.138 and 571.139 | 2012 | 2013
6 | 49 CFR parts 529 through 578, except parts 571 and 575 | 2013 | 2014
7 | 49 CFR 571.111 through 571.129 and parts 580 through 588 | 2014 | 2015
8 | 49 CFR 571.201 through 571.212 | 2015 | 2016
9 | 49 CFR 571.214 through 571.219, except 571.217 | 2016 | 2017
10 | 49 CFR parts 591 through 595 and new parts and subparts | 2017 | 2018

Year 3 (Fall 2010) List of Rules Analyzed and a Summary of the Results

49 CFR part 501—Organization and Delegation of Powers and Duties

• Section 610: There is no SEIOSNOSE.

• General: No changes are needed. These regulations impose the least burden. NHTSA's plain language review of these rules indicates no need for substantial revision.

49 CFR part 509—OMB Control Numbers for Information Collection Requirements

• Section 610: There is no SEIOSNOSE.

• General: No changes are needed. These regulations impose the least burden. NHTSA's plain language review of these rules indicates no need for substantial revision.

49 CFR part 510—Information Gathering Powers

• Section 610: There is no SEIOSNOSE.

• General: No changes are needed. These regulations impose the least burden. NHTSA's plain language review of these rules indicates no need for substantial revision.

49 CFR part 511—Adjudicative Procedures

• Section 610: There is no SEIOSNOSE.

• General: No changes are needed. These regulations impose the least burden. NHTSA's plain language review of these rules indicates no need for substantial revision.

49 CFR part 512—Confidential Business Information

• Section 610: There is no SEIOSNOSE.

• General: No changes are needed. These regulations impose the least burden. NHTSA's plain language review of these rules indicates no need for substantial revision.

49 CFR part 520—Procedures for Considering Environmental Impacts

• Section 610: There is no SEIOSNOSE.

• General: No changes are needed. These regulations impose the least burden. NHTSA's plain language review of these rules indicates no need for substantial revision.

49 CFR part 523—Vehicle Classification

• Section 610: There is no SEIOSNOSE.

• General: No changes are needed. These regulations impose the least burden. NHTSA's plain language review of these rules indicates no need for substantial revision.

49 CFR part 525—Exemptions From Average Fuel Economy Standards

• Section 610: There is no SEIOSNOSE.

• General: No changes are needed. These regulations are cost effective and impose the least burden. NHTSA's plain language review of these rules indicates no need for substantial revision.

49 CFR part 526—Petitions and Plans for Relief Under the Automobile Fuel Efficiency Act of 1980

• Section 610: There is no SEIOSNOSE.

• General: No changes are needed. These regulations impose the least burden. NHTSA's plain language review of these rules indicates no need for substantial revision.

49 CFR 571.213—Child Restraint Systems

• Section 610: There is no SEIOSNOSE.

• General: No changes are needed. These regulations are cost effective and impose the least burden. NHTSA's plain language review of these rules indicates no need for substantial revision. This standard is constantly reviewed by NHTSA as well as child restraint manufacturers and child safety activists.

Year 4 (Fall 2011) List of Rules That Will Be Analyzed During the Next Year

49 CFR 571.131—School Bus Pedestrian Safety Devices

49 CFR 571.217—Bus Emergency Exits and Window Retention and Release

49 CFR 571.220—School Bus Rollover Protection

49 CFR 571.221—School Bus Body Joint Strength

49 CFR 571.222—School Bus Passenger Seating and Crash Protection

Federal Railroad Administration

Section 610 and Other Reviews
Year | Regulations To Be Reviewed | Analysis Year | Review Year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, 240, and 265 | 2017 | 2018

Year 3 (Fall 2010) List of Rules Analyzed and a Summary of Results

49 CFR part 210—Railroad Noise Emission Compliance Regulations

• Section 610: There is no SEIOSNOSE.

• General: No changes are needed. These regulations are cost effective and impose the least burden. FRA's plain language review of this rule indicates no need for substantial revision.

49 CFR part 212—State Safety Participation Regulations

• Section 610: There is no SEIOSNOSE.

• General: No changes are needed. These regulations are cost effective and impose the least burden. FRA's plain language review of this rule indicates no need for substantial revision.

49 CFR part 214—Railroad Workplace Safety

• Section 610: There is a SEIOSNOSE.

• General: FRA will conduct a formal review to identify measures that may reduce the burden on small railroads without compromising safety standards. FRA's plain language review of this rule indicates no need for substantial revision.

49 CFR part 217—Railroad Operating Rules

• Section 610: There is no SEIOSNOSE.

• General: No changes are needed. These regulations are cost effective and impose the least burden. FRA's plain language review of this rule indicates no need for substantial revision.

49 CFR part 268—Magnetic Levitation Transportation Technology Deployment Program

• Section 610: There is no SEIOSNOSE.

• General: No changes are needed. These regulations are cost effective and impose the least burden. FRA's plain language review of this rule indicates no need for substantial revision.

Year 4 (Fall 2011) List of Rule(s) That Will Be Analyzed During Next Year

49 CFR part 219—Control of alcohol and drug use

Federal Transit Administration

Section 610 and Other Reviews
Year | Regulations To Be Reviewed | Analysis Year | Review Year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 3 (Fall 2010) List of Rules Analyzed and Summary of Results

49 CFR part 633—Capital Project Management

• Section 610: The agency has determined that the rule will not have a significant effect on a substantial number of small entities.

• General: The agency intends to issue a new rule to articulate the roles and responsibilities of FTA's capital project management contractors. The amended rule will adhere to plain language techniques.

Year 3 (Fall 2010) List of Rules With Ongoing Analysis

49 CFR part 605—School Bus Operations

Year 4 (Fall 2011) List of Rules Analyzed and Summary of Results

49 CFR part 611—Major Capital Investment Projects

• Section 610: The agency has determined that the rule will not have a significant effect on a substantial number of small entities.

• General: The agency intends to amend the rule to make it consistent with the current statute. The amended rule will be written in plain language.

Year 4 (Fall 2011) List of Rules That Will Be Analyzed in the Next Year

49 CFR part 609—Transportation for Elderly and Handicapped Persons

Maritime Administration

Section 610 and Other Reviews
Year | Regulations To Be Reviewed | Analysis Year | Review Year
1 | 46 CFR parts 201 through 205 | 2008 | 2009
2 | 46 CFR parts 221 through 232 | 2009 | 2010
3 | 46 CFR parts 249 through 296 | 2010 | 2011
4 | 46 CFR parts 221, 298, 308, and 309 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 3 (Fall 2010) List of Rules With Ongoing Analysis

46 CFR part 381—Cargo Preference—U.S.-Flag Vessels

46 CFR part 383—Cargo Preference—Compromise, Assessment, Mitigation, Settlement & Collection of Civil Penalties

Year 3 (Fall 2010) List of Rules Analyzed and Summary of Results

46 CFR part 251—Application for Subsidies and Other Direct Financial Aid

• Section 610: No SEIOSNOSE. No economic impact to small entities.

• General: Yes, changes are needed. This regulation is obsolete and should therefore be deleted from the regulations.

46 CFR part 252—Operating-Differential Subsidy for Bulk Cargo Vessels Engaged in Worldwide Services

• Section 610: No SEIOSNOSE. No economic impact to small entities.

• General: Yes, changes are needed. This regulation is obsolete and should therefore be deleted from the regulations.

46 CFR part 276—Construction-Differential Subsidy Repayment

• Section 610: No SEIOSNOSE. No economic impact to small entities.

• General: Yes, changes are needed. This regulation is obsolete and should therefore be deleted from the regulations.

46 CFR part 280—Limitations on the Award and Payment of Operating-Differential Subsidy for Liner Operators

• Section 610: No SEIOSNOSE. No economic impact to small entities.

• General: Yes, changes are needed. This regulation is obsolete and should therefore be deleted from the regulations.

46 CFR part 281—Information and Procedure Required under Liner Operating-Differential Subsidy Agreements

• Section 610: No SEIOSNOSE. No economic impact to small entities.

• General: Yes, changes are needed. This regulation is obsolete and should therefore be deleted from the regulations.

46 CFR part 282—Operating-Differential Subsidy for Liner Vessels Engaged in Essential Services in the Foreign Commerce of the United States

• Section 610: No SEIOSNOSE. No economic impact to small entities.

• General: Yes, changes are needed. This regulation is obsolete and should therefore be deleted from the regulations.

46 CFR part 283—Dividend Policy for Operators Receiving Operating-Differential Subsidy

• Section 610: No SEIOSNOSE. No economic impact to small entities.

• General: Yes, changes are needed. This regulation is obsolete and should therefore be deleted from the regulations.

46 CFR part 327—Administrative Claims

• Section 610: No SEIOSNOSE. No economic impact to small entities.

• General: Yes, changes are needed. This regulation is being revised to clarify the administrative claims process. It has been drafted using plain language techniques.

Year 4 (Fall 2011) List of Rules That Will Be Analyzed During the Next Year

46 CFR part 221—Foreign Transfer Regulations

46 CFR part 249—Approval of Underwriters for Marine Hull Insurance

46 CFR part 272—Requirements and Procedures for Conducting Condition Surveys and Administering Maintenance and Repair Subsidy

46 CFR part 287—Establishment of Construction Reserve Funds

46 CFR part 289—Insurance of Construction-Differential Subsidy Vessels, Operating-Differential Subsidy Vessels, and of Vessels Sold or Adjusted Under the Merchant Ship Sales Act of 1946

46 CFR part 295—Maritime Security Program (MSP)

46 CFR part 296—Maritime Security Program (MSP)

46 CFR part 308—War Risk Insurance

46 CFR part 309—War Risk Ship Valuation

Pipeline and Hazardous Materials Safety Administration (PHMSA)

Section 610 and Other Reviews
Year | Regulations To Be Reviewed | Analysis Year | Review Year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 through 178 | 2015 | 2016
9 | 49 CFR parts 172, 173, 174, 176, 177, and 193 | 2016 | 2017
10 | 49 CFR parts 173 and 194 | 2017 | 2018

Year 4 (Fall 2011) List of Rules That Will Be Analyzed During the Next Year

49 CFR section 171.15—Immediate Notice of Certain Hazardous Materials Incidents

49 CFR section 171.16—Detailed Hazardous Materials Incident Reports

Year 3 (Fall 2010) List of Rules Analyzed and a Summary of Results

49 CFR part 172—Hazardous Materials Table, Special Provisions, Hazardous Materials Communications, Emergency Response Information, Training Requirements, and Security Plans.

• Section 610: There is no SEIOSNOSE. A substantial number of small entities may be affected by this rule, but the economic impact on those entities is not significant.

• Plain Language: PHMSA's plain language review of this rule indicates no need for substantial revision. Where confusing or wordy language has been identified, revisions have been and will be made to simplify.

• General: This rule prescribes minimum requirements for the communication of risks associated with materials classed as hazardous in accordance with the Hazardous Materials Regulations (HMR; 49 CFR parts 171-180). The rule also includes security planning and training requirements for the safe and secure transportation of hazardous materials in commerce. On March 9, 2010, PHMSA published a final rule entitled “Risk-Based Adjustment of Transportation Security Plan Requirements” (75 FR 10974). PHMSA determined that 10,119 entities would no longer be subject to current security plan and associated in-depth training requirements. The annual benefit resulting from the final rule is estimated to be about $3.6 million-$2.8 million in avoided costs related to development of security plans and $0.8 million in costs savings for associated training. 49 CFR part 175—Carriage by Aircraft

• Section 610: There is no SEIOSNOSE. This rule prescribes minimum safety standards for the transportation of hazardous materials aboard aircraft. Some small entities may be affected, but the economic impact on small entities will not be significant.

• Plain Language: PHMSA's plain language review of this rule indicates no need for substantial revision.

• General: The requirements in this rule are necessary to protect air transportation workers and the traveling public from the dangers associated with hazardous materials incidents aboard aircraft.

Research and Innovative Technology Administration (RITA)

Section 610 and Other Reviews
Year | Regulations To Be Reviewed | Analysis Year | Review Year
1 | 14 CFR part 241, form 41 | 2008 | 2009
2 | 14 CFR part 241, schedule T-100, and part 217 | 2009 | 2010
3 | 14 CFR part 298 | 2010 | 2011
4 | 14 CFR part 241, section 19-7 | 2011 | 2012
5 | 14 CFR part 291 | 2012 | 2013
6 | 14 CFR part 234 | 2013 | 2014
7 | 14 CFR part 249 | 2014 | 2015
8 | 14 CFR part 248 | 2015 | 2016
9 | 14 CFR part 250 | 2016 | 2017
10 | 14 CFR part 374a, ICAO | 2017 | 2018

Year 1 (Fall 2008) List of Rules With Ongoing Analysis

14 CFR part 241—Uniform System of Accounts and Reports for Large Certificated Air Carriers, Form 41

Year 3 (Fall 2010) List of Rules With Ongoing Analysis

14 CFR part 298 subpart f—Exemptions for Air Taxi and Commuter Air Carrier Operations—Reporting Requirements

Year 4 (Fall 2011) List of Rules That Will Be Analyzed During the Next Year

14 CFR part 241, section 19-7—Passenger Origin-Destination Survey

Saint Lawrence Seaway Development Corporation

Section 610 and Other Reviews
Year | Regulations To Be Reviewed | Analysis Year | Review Year
1 | 33 CFR parts 401 through 403 | 2008 | 2009

Year 1 (Fall 2008) List of Rules With Ongoing Analysis

33 CFR part 401—Seaway Regulations and Rules

33 CFR part 402—Tariff of Tolls

33 CFR part 403—Rules of Procedure of the Joint Tolls Review Board

Office of the Secretary—Proposed Rule Stage
Sequence No. | Title | Regulation Identifier No.
405 | + Enhancing Airline Passenger Protections III (Reg Plan Seq No. 104) | 2105-AE11
+ DOT-designated significant regulation.
References in boldface appear in The Regulatory Plan in part II of this issue of the Federal Register.

Office of the Secretary—Final Rule Stage
Sequence No. | Title | Regulation Identifier No.
406 | + Use of the Seat-Strapping Method for Carrying a Wheelchair on an Aircraft | 2105-AD87
+ DOT-designated significant regulation.

Federal Aviation Administration—Proposed Rule Stage
Sequence No. | Title | Regulation Identifier No.
407 | + Qualification, Service, and Use of Crewmembers and Aircraft Dispatchers (Reg Plan Seq No. 106) | 2120-AJ00
408 | + Operation and Certification of Small Unmanned Aircraft Systems (SUAS) | 2120-AJ60
409 | + Repair Stations | 2120-AJ61
410 | + Air Carrier Maintenance Training Program (Section 610 Review) | 2120-AJ79
+ DOT-designated significant regulation.
References in boldface appear in The Regulatory Plan in part II of this issue of the Federal Register.

Federal Aviation Administration—Final Rule Stage
Sequence No. | Title | Regulation Identifier No.
411 | + Air Ambulance and Commercial Helicopter Operations; Safety Initiatives and Miscellaneous Amendments (Reg Plan Seq No. 108) | 2120-AJ53
412 | + Safety Management Systems for Certificate Holders (Section 610 Review) (Reg Plan Seq No. 109) | 2120-AJ86
+ DOT-designated significant regulation.
References in boldface appear in The Regulatory Plan in part II of this issue of the Federal Register.

Federal Aviation Administration—Long-Term Actions
Sequence No. | Title | Regulation Identifier No.
413 | + Regulation Of Flight Operations Conducted By Alaska Guide Pilots | 2120-AJ78
+ DOT-designated significant regulation.

Federal Aviation Administration—Completed Actions
Sequence No. | Title | Regulation Identifier No.
414 | + Activation of Ice Protection | 2120-AJ43
415 | Damage Tolerance and Fatigue Evaluation for Metallic Structures | 2120-AJ51
416 | + Exiting Icing Conditions | 2120-AJ74
+ DOT-designated significant regulation.

Federal Motor Carrier Safety Administration—Proposed Rule Stage
Sequence No. | Title | Regulation Identifier No.
417 | + Unified Registration System | 2126-AA22
+ DOT-designated significant regulation.

Federal Motor Carrier Safety Administration—Long-Term Actions
Sequence No. | Title | Regulation Identifier No.
418 | + Safety Monitoring System and Compliance Initiative for Mexico-Domiciled Motor Carriers Operating in the United States | 2126-AA35
419 | + Electronic On-Board Recorders and Hours of Service Supporting Documents | 2126-AB20
+ DOT-designated significant regulation.

Federal Motor Carrier Safety Administration—Completed Actions
Sequence No. | Title | Regulation Identifier No.
420 | + Hours of Service | 2126-AB26
421 | + Drivers of Commercial Vehicles: Restricting the Use of Cellular Phones (Section 610 Review) | 2126-AB29
+ DOT-designated significant regulation.

Pipeline and Hazardous Materials Safety Administration—Proposed Rule Stage
Sequence No. | Title | Regulation Identifier No.
422 | + Hazardous Materials: Revisions to Requirements for the Transportation of Lithium Batteries | 2137-AE44
423 | Hazardous Materials: Miscellaneous Amendments (RRR) (Section 610 Review) | 2137-AE78
+ DOT-designated significant regulation.

Maritime Administration—Completed Actions
Sequence No. | Title | Regulation Identifier No.
424 | + Cargo Preference—Compromise, Assessment, Mitigation, Settlement, and Collection of Civil Penalties | 2133-AB75
+ DOT-designated significant regulation.

DEPARTMENT OF TRANSPORTATION (DOT)

Office of the Secretary (OST)

Proposed Rule Stage

405. • + Enhancing Airline Passenger Protections III

Regulatory Plan: This entry is Seq. No. 104 in part II of this issue of the Federal Register.

RIN: 2105-AE11

DEPARTMENT OF TRANSPORTATION (DOT)

Office of the Secretary (OST)

Final Rule Stage

406. + Use of the Seat-Strapping Method for Carrying a Wheelchair on an Aircraft

Legal Authority: 49 U.S.C. 41705

Abstract: This rulemaking would address whether carriers should be allowed to utilize the seat-strapping method to stow a passenger´s wheelchair in the aircraft cabin.

Timetable:

Action | Date | FR Cite
NPRM | 06/03/11 | 76 FR 32107
NPRM Comment Period End | 08/02/11 |
Final Rule | 08/00/12 |

Regulatory Flexibility Analysis Required: Yes.

Agency Contact: Blane A. Workie, Attorney, Department of Transportation, Office of the Secretary, 1200 New Jersey Avenue SE., Washington, DC 20590, Phone: 202 366-9342, TDD Phone: 202 755-7687, Fax: 202 366-7152, Email: blane.workie@ost.dot.gov.

RIN: 2105-AD87

BILLING CODE 4910- 9X -P

DEPARTMENT OF TRANSPORTATION (DOT)

Federal Aviation Administration (FAA)

Proposed Rule Stage

407. + Qualification, Service, and Use of Crewmembers and Aircraft Dispatchers

Regulatory Plan: This entry is Seq. No. 106 in part II of this issue of the Federal Register.

RIN: 2120-AJ00

408. + Operation and Certification of Small Unmanned Aircraft Systems (SUAS)

Legal Authority: 49 U.S.C. 44701

Abstract: This rulemaking would enable small unmanned aircraft to safely operate in limited portions of the national airspace system (NAS). This action is necessary because it addresses the novel legal or policy issues about the minimum safety parameters for operating recreational remote control model and toy aircraft in the NAS. The intended effect of this action is to develop requirements and standards to ensure that risks are adequately mitigated, such that safety is maintained for the entire aviation community.

Timetable:

Action | Date | FR Cite
NPRM | 05/00/12 |

Regulatory Flexibility Analysis Required: Yes.

Agency Contact: Stephen A Glowacki, Department of Transportation, Federal Aviation Administration, 800 Independence Avenue SW., Washington, DC 20591, Phone: 202 385-4898, Email: stephen.a.glowacki@faa.gov.

RIN: 2120-AJ60

409. + Repair Stations

Legal Authority: 49 U.S.C. 44701; 49 U.S.C. 44702; 49 U.S.C. 106(g); 49 U.S.C. 40113; 49 U.S.C. 44701 to 44702; 49 U.S.C. 44707; 49 U.S.C. 44709; 49 U.S.C. 44717

Abstract: This rulemaking would update and revise the regulations for repair stations. The action is necessary because many portions of the current regulations do not reflect current repair station business practices, aircraft maintenance practices, or advances in aircraft technology.

Timetable:

Action | Date | FR Cite
NPRM | 06/00/12 |

Regulatory Flexibility Analysis Required: Yes.

Agency Contact: John J Goodwin, Department of Transportation, Federal Aviation Administration, 950 L'Enfant Plaza North, SW., Washington, DC 20024, Phone: 202 385-6417, Email: john.j.goodwin@faa.gov.

RIN: 2120-AJ61

410. + Air Carrier Maintenance Training Program (Section 610 Review)

Legal Authority: 49 U.S.C. 44101; 49 U.S.C. 106(g); 49 U.S.C. 40113; 49 U.S.C. 40119; 49 U.S.C. 41706; 49 U.S.C. 44701; 49 U.S.C. 44702; 49 U.S.C. 44705; 49 U.S.C. 44709 to 47111; 49 U.S.C. 44713; 49 U.S.C. 44715; 49 U.S.C. 44716; 49 U.S.C. 44717; 49 U.S.C. 44722; 49 U.S.C. 46105

Abstract: This rulemaking would require FAA approval of maintenance training programs of air carriers that operate aircraft type certificated for a passenger seating configuration of 10 seats or more (excluding any pilot seat). The intent of this rulemaking is to reduce the number of accidents and incidents caused by human error, improper maintenance, inspection, or repair practices.

Timetable:

Action | Date | FR Cite
NPRM | 06/00/12 |

Regulatory Flexibility Analysis Required: Yes.

Agency Contact: John J Hiles, Flight Standards Service, Department of Transportation, Federal Aviation Administration, 950 L'Enfant Plaza North, SW., Washington, DC 20591, Phone: 202 385-6421, Email: john.j.hiles@faa.gov.

RIN: 2120-AJ79

DEPARTMENT OF TRANSPORTATION (DOT)

Federal Aviation Administration (FAA)

Final Rule Stage

411. + Air Ambulance and Commercial Helicopter Operations; Safety Initiatives and Miscellaneous Amendments

Regulatory Plan: This entry is Seq. No. 108 in part II of this issue of the Federal Register.

RIN: 2120-AJ53

412. + Safety Management Systems for Certificate Holders (Section 610 Review)

Regulatory Plan: This entry is Seq. No. 109 in part II of this issue of the Federal Register.

RIN: 2120-AJ86

DEPARTMENT OF TRANSPORTATION (DOT)

Federal Aviation Administration (FAA)

Long-Term Actions

413. + Regulation of Flight Operations Conducted by Alaska Guide Pilots

Legal Authority: 49 U.S.C. 106(g); 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Sta 1180

Abstract: This rulemaking would establish general operating and flight rules applicable to the flight operations conducted by Alaska guide pilots. The rulemaking would implement legislation.

Timetable:

Action | Date | FR Cite
NPRM | 06/00/13 |

Regulatory Flexibility Analysis Required: Yes.

Agency Contact: Jeff Smith, Department of Transportation, Federal Aviation Administration, 800 Independence Avenue SW., Washington, DC 20785, Phone: 202 385-9615, Email: jeffrey.smith@faa.gov.

RIN: 2120-AJ78

DEPARTMENT OF TRANSPORTATION (DOT)

Federal Aviation Administration (FAA)

Completed Actions

414. + Activation of Ice Protection

Legal Authority: 49 U.S.C. 106(g); 49 U.S.C. 40113; 49 U.S.C. 40119; 49 U.S.C. 44101; 49 U.S.C. 44701; 49 U.S.C. 44705; 49 U.S.C. 44709 to 44711; 49 U.S.C. 44713; 49 U.S.C. 44716; 49 U.S.C. 44722; 49 U.S.C. 44901; 49 U.S.C. 44903; 49 U.S.C. 44912; 49 U.S.C. 46105; 49 U.S.C. 44702; 49 U.S.C. 44717; 49 U.S.C. 44904

Abstract: This rulemaking would amend the regulations applicable to operators of certain airplanes used in air carrier service and certificated for flight in icing conditions. The standards would require either the installation of ice detection equipment or changes to the Airplane Flight Manual to ensure timely activation of the airframe ice protection system. This regulation is the result of information gathered from a review of icing accidents and incidents, and it is intended to improve the level of safety when airplanes are operated in icing conditions.

Timetable:

Action | Date | FR Cite
NPRM | 11/23/09 | 74 FR 61055
NPRM Comment Period End | 02/22/10 |
Final Rule | 08/22/11 | 76 FR 52241
Final Rule Effective | 10/21/11 |

Regulatory Flexibility Analysis Required: Yes.

Agency Contact: Jerry Ostronic, Air Carrier Operations Branch, AFS 220, Department of Transportation, Federal Aviation Administration, 800 Independence Avenue SW., Washington, DC 20591, Phone: 202-267-8166, Fax: 202-267-5229, Email: jerry.c.ostronic@faa.gov.

RIN: 2120-AJ43

415. Damage Tolerance and Fatigue Evaluation for Metallic Structures

Legal Authority: 49 U.S.C. 106(g); 49 U.S.C. 40113; 49 U.S.C. 44701; 49 U.S.C. 44702; 49 U.S.C. 44704; 49 U.S.C. 106(g); 49 U.S.C. 40113; 49 U.S.C. 44701; 49 U.S.C. 44702; 49 U.S.C. 44704

Abstract: The rule addresses advances in structural fatigue tolerance evaluation of transport category rotorcraft metallic structure and provide an increased level of safety by avoiding or reducing catastrophic fatigue failures of metallic rotorcraft structures.

Timetable:

Action | Date | FR Cite
NPRM | 03/12/10 | 75 FR 11799
NPRM Comment Period Extended | 05/05/10 | 75 FR 24501
NPRM Comment Period End | 06/10/10 |
NPRM Comment Period Extended End | 07/30/10 |
Final Rule | 12/02/11 | 76 FR 75435
Final Rule Effective | 01/31/12 |

Regulatory Flexibility Analysis Required: Yes.

Agency Contact: Sharon Miles, Regulations and Policy Group, Department of Transportation, Federal Aviation Administration, 2601 Meacham Blvd., Fort Worth, TX 76137, Phone: 817 222-5122, Email: sharon.y.miles@faa.gov.

RIN: 2120-AJ51

416. + Exiting Icing Conditions

Legal Authority: 49 U.S.C. 106(g); 49 U.S.C. 40113; 49 U.S.C. 40119; 49 U.S.C. 44101; 49 U.S.C. 44701; 49 U.S.C. 44702; 49 U.S.C. 44705; 49 U.S.C. 44709; 49 U.S.C. 44710; 49 U.S.C. 44711; 49 U.S.C. 44713; 49 U.S.C. 44716; 49 U.S.C. 44717; 49 U.S.C. 44722; 49 U.S.C. 44901; 49 U.S.C. 44903; 49 U.S.C. 44904; 49 U.S.C. 44912; 49 U.S.C. 46105

Abstract: This rulemaking would require operators of certain airplanes used in air carrier service and certificated for flight in icing conditions to: 1. enable the flightcrew to determine when the airplane is in large drop icing conditions, and 2. require follow-on flightcrew action in these conditions for certain airplanes with reversible flight controls for the pitch and/or roll axis. This rulemaking is the result of information gathered from a review of icing accidents and incidents, and it is intended to improve the level of safety when airplanes are operated in icing conditions. This rulemaking will be replaced by RIN 2120-AJ95.

Timetable:

Action | Date | FR Cite
Terminated | 06/01/11 |

Regulatory Flexibility Analysis Required: Yes.

Agency Contact: Robert Hettman, ANM-112, Transport Airplane Directorate, Department of Transportation, Federal Aviation Administration, 1601 Lind Avenue SW., Renton, WA 98057, Phone: 425 227-2683, Email: robert.hettman@faa.gov.

RIN: 2120-AJ74

BILLING CODE 4910- 13-P

DEPARTMENT OF TRANSPORTATION (DOT)

Federal Motor Carrier Safety Administration (FMCSA)

Proposed Rule Stage

417. + Unified Registration System

Legal Authority: Pub. L. 104-88; 109 Stat 803, 888 (1995); 49 U.S.C. 13908; Pub. L. 109-159, sec 4304

Abstract: This rulemaking would replace three current identification and registration systems: the US DOT number identification system, the commercial registration system, and the financial responsibility system, with an online Federal unified registration system (URS). This program would serve as a clearinghouse and depository of information on, and identification of, brokers, freight forwarders, and others required to register with the Department of Transportation. The Agency is revising this rulemaking to address amendments directed by Safe, Accountable, Flexible, Efficient, Transportation Equity Act: A Legacy for Users (SAFETEA-LU). The replacement system for the Single State Registration System, which the ICC Termination Act originally directed be merged under URS, was addressed separately in RIN 2126-AB09. The cargo insurance portion of this rulemaking has been split off into RIN 2126-AB21.

Timetable:

Action | Date | FR Cite
ANPRM | 08/26/96 | 61 FR 43816
ANPRM Comment Period End | 10/25/96 |
NPRM | 05/19/05 | 70 FR 28990
NPRM Comment Period End | 08/17/05 |
Supplemental NPRM | 10/26/11 | 76 FR 66506
Supplemental NPRM Comment Period End | 12/27/11 |
Analyzing Comments | 02/00/12 |

Regulatory Flexibility Analysis Required: Yes.

Agency Contact: Valerie Height, Management Analyst, Department of Transportation, Federal Motor Carrier Safety Administration, Office of Policy Plans and Regulation (MC-PRR), 1200 New Jersey Ave. SE., Washington, DC 20590, Phone: 202 366-0901, Email: valerie.height@dot.gov.

RIN: 2126-AA22

DEPARTMENT OF TRANSPORTATION (DOT)

Federal Motor Carrier Safety Administration (FMCSA)

Long-Term Actions

418. + Safety Monitoring System and Compliance Initiative for Mexico—Domiciled Motor Carriers Operating in the United States

Legal Authority: Pub. L. 107-87, sec 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003. FMCSA will determine the next steps to be taken after the pilot program on the long haul trucking provisions of NAFTA is completed.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent To Prepare an EIS | 08/26/03 | 68 FR 51322
EIS Public Scoping Meetings | 10/08/03 | 68 FR 58162
Next Action Undetermined |  |

Regulatory Flexibility Analysis Required: Yes.

Agency Contact: Dolores Macias, Acting Division Chief, Department of Transportation, Federal Motor Carrier Safety Administration, 1200 New Jersey Avenue SE., Washington, DC 20590, Phone: 202 366-2995, Email: dolores.macias@dot.gov.

RIN: 2126-AA35

419. + Electronic On-Board Recorders and Hours of Service Supporting Documents

Legal Authority: 49 U.S.C. 31502; 31136(a); Pub. L. 103.311; 49 U.S.C. 31137(a)

Abstract: This rulemaking will consider revisions to RIN 2126-AA89 (Electronic On-Board Recorders for Hours of Service Drivers) to expand the number of motor carriers required to install and operate Electronic On-Board Recorders (EOBRs). FMCSA is consolidating this follow-up to the EOBR rule with the Hours Of Service Of Drivers: Supporting Documents rulemaking for development of a single NPRM in RIN 2126-AB20. In addressing Hours of Service Supporting Documents requirements in this new rulemaking, FMCSA will consider reducing or eliminating current paperwork burdens associated with supporting documents in favor of expanded EOBR use.

On January 15, 2010, the American Trucking Associations (ATA) filed a Petition for a Writ of Mandamus in the United States Court of Appeals for the District of Columbia Circuit (D.C. Cir. No. 10-1009). ATA petitioned the court to direct FMCSA to issue an NPRM on supporting documents in conformance with the requirements set forth in section 113 of the HMTAA within 60 days after the issuance of the writ and a final rule no later than 6 months after the issuance of the NPRM. The court granted the petition for writ of mandamus on September 30, 2010, ordering FMCSA to issue an NPRM on the supporting document regulations by December 30, 2010. At the request of the agency, the D.C. Circuit extended the deadline to January 31, 2011.

Timetable:

Action | Date | FR Cite
NPRM | 02/01/11 | 76 FR 5537
NPRM Comment Period End | 02/28/11 |
NPRM Comment Period Extended | 03/10/11 | 76 FR 13121
Extended NPRM Comment Period End | 05/23/11 |
Next Action Undetermined |  |

Regulatory Flexibility Analysis Required: Yes.

Agency Contact: Deborah M. Freund, Senior Transportation Specialist, Department of Transportation, Federal Motor Carrier Safety Administration, 1200 New Jersey Avenue SE., Washington, DC 20590, Phone: 202 366-5370, Email: deborah.freund@dot.gov.

RIN: 2126-AB20

DEPARTMENT OF TRANSPORTATION (DOT)

Federal Motor Carrier Safety Administration (FMCSA)

Completed Actions

420. + Hours of Service

Legal Authority: 49 U.S.C. 31502(b)

Abstract: This rulemaking changes the hours of service requirements for drivers operating a commercial motor vehicle transporting property. The requirement for this rulemaking was established on October 26, 2009, when Public Citizen, et al. (Petitioners) and FMCSA entered into a settlement agreement under which Petitioners' petition for judicial review of the November 19, 2008, Final Rule on drivers' hours of service was held in abeyance pending the publication of an NPRM reevaluating the Hours of Service rule. Per subsequent agreement, the final rule will be published by October 28, 2011.

Timetable:

Action | Date | FR Cite
NPRM | 12/29/10 | 75 FR 82170
NPRM Comment Period End | 02/02/11 |
NPRM; Notice of Availability of Supplemental Documents and Corrections; Extension of Comment Period | 02/16/11 | 76 FR 8990
Extended Comment Period End | 03/02/11 |
NPRM Comment Period Reopened | 05/29/11 | 76 FR 26681
NPRM Comment Period Reopened End | 06/08/11 |
Final Rule | 12/27/11 | 76 FR 81134
Final Rule Effective | 02/27/12 |

Regulatory Flexibility Analysis Required: Yes.

Agency Contact: Thomas Yager, Driver and Carrier Operations Division, Department of Transportation, Federal Motor Carrier Safety Administration, 1200 New Jersey Avenue SE., Washington, DC 20590, Phone: 202 366-4325, Email: tom.yager@dot.gov.

RIN: 2126-AB26

421. + Drivers of Commercial Vehicles: Restricting the Use of Cellular Phones (Section 610 Review)

Legal Authority: Pub. L. 98-554

Abstract: This rulemaking would restrict the use of mobile telephones while operating a commercial motor vehicle. This rulemaking is in response to Federal Motor Carrier Safety Administration-sponsored studies that analyzed safety incidents and distracted drivers. This rulemaking addresses an item on the National Transportation Safety Board's “Most Wanted List” of safety recommendations.

Timetable:

Action | Date | FR Cite
NPRM | 12/21/10 | 75 FR 80014
NPRM Comment Period End | 03/21/11 |
Final Rule | 12/02/11 | 76 FR 75470
Final Rule Effective | 01/03/12 |

Regulatory Flexibility Analysis Required: No.

Agency Contact: Mike Huntley, Chief, Vehicle and Roadside Operations Division, Department of Transportation, Federal Motor Carrier Safety Administration, 1200 New Jersey Avenue SE., Washington, DC 20590, Phone: 202 366-9209, Email: michael.huntley@dot.gov.

RIN: 2126-AB29

BILLING CODE 4910-EX-P

DEPARTMENT OF TRANSPORTATION (DOT)

Pipeline and Hazardous Materials Safety Administration (PHMSA)

Proposed Rule Stage

422. + Hazardous Materials: Revisions to Requirements for the Transportation of Lithium Batteries

Legal Authority: 49 U.S.C. 5101 et seq.

Abstract: This rulemaking would amend the Hazardous Materials Regulations (HMR) to comprehensively address the safe transportation of lithium cells and batteries. The intent of the rulemaking is to strengthen the current regulatory framework by imposing more effective safeguards. The rulemaking responds to several recommendations issued by the National Transportation Safety Board.

Timetable:

Action | Date | FR Cite
NPRM | 01/11/10 | 75 FR 1302
NPRM Comment Period End | 03/12/10 |
Supplemental NPRM | 05/00/12 |

Regulatory Flexibility Analysis Required: Yes.

Agency Contact: Kevin Leary, Transportation Specialist, Department of Transportation, Pipeline and Hazardous Materials Safety Administration, 1200 New Jersey Avenue SE., Washington, DC 20590, Phone: 202 366-8553, Email: kevin.leary@dot.gov.

RIN: 2137-AE44

423. • Hazardous Materials: Miscellaneous Amendments (RRR) (Section 610 Review)

Legal Authority: 49 U.S.C. 5101 et seq.

Abstract: This rulemaking would update and clarify existing requirements by incorporating changes into the Hazardous Materials Regulations (HMR) based on PHMSA's own initiatives through an extensive review of the HMR and previously issued letters of interpretation. Specifically, among other provisions, PHMSA would provide for the continued use of approvals until final administrative action is taken, when a correct and completed application for approval renewal was received 60 days prior to expiration date; update various entries in the hazardous materials table and the corresponding special provisions; clarify the lab pack requirements for temperature controlled materials; correct an error in the HMR with regard to the inspection of cargo tank motor vehicles containing corrosive materials; and revise the training requirements to require that a hazardous materials employer ensure their hazardous materials employee training records are available upon request to an authorized official of the Department of Transportation or the Department of Homeland Security.

Timetable:

Action | Date | FR Cite
NPRM | 07/00/12 |

Regulatory Flexibility Analysis Required: No.

Agency Contact: Robert Benedict, Transportation Regulations Specialist, Department of Transportation, Pipeline and Hazardous Materials Safety Administration, 1200 New Jersey Avenue SE., Washington, DC 20590, Phone: 202 366-4506, Email: robert.benedict@dot.gov.

RIN: 2137-AE78

BILLING CODE 4910-60-P

DEPARTMENT OF TRANSPORTATION (DOT)

Maritime Administration (MARAD)

Completed Actions

424. + Cargo Preference—Compromise, Assessment, Mitigation, Settlement, and Collection of Civil Penalties

Legal Authority: Pub. L. 110-417

Abstract: This rulemaking would establish part 383 of the Cargo Preference regulations. This rulemaking would cover Public Law 110-417, section 3511, National Defense Authorization Act for FY 2009 statutory changes to the cargo preference rules, which have not been substantially revised since 1971. The rulemaking also would include compromise, assessment, mitigation, settlement, and collection of civil penalties. Originally MARAD had two separate rulemakings in process on cargo preference under RINs 2133-AB74 and 2133-AB75. The agency has decided that it would be more efficient to merge both efforts under one; this action is merged with RIN 2133-AB74.

Timetable:

Action | Date | FR Cite
Merged With RIN 2133-AB74 | 12/21/11 |

Regulatory Flexibility Analysis Required: Yes.

Agency Contact: Christine Gurland, Department of Transportation, Maritime Administration, 1200 New Jersey Avenue SE., Washington, DC 20590, Phone: 202 366-5157, Email: christine.gurland@dot.gov.

RIN: 2133-AB75

[FR Doc. 2012-1653 Filed 2-10-12; 8:45 am]

BILLING CODE 4910-81-P